DEPARTMENT OF JUSTICE

[OMB Number 1121-0147]

Agency Information Collection Activities; Proposed eCollection eComments Requested; Reinstatement, With Change, of a Previously Approved Collection for Which Approval Has Expired: Census of State and Federal Adult Correctional Facilities

AGENCY: Bureau of Justice Statistics, Department of Justice.

ACTION: 60-Day notice.

SUMMARY: The Bureau of Justice Statistics (BJS), Department of Justice (DOJ) will be submitting the following information collection request to the Office of Management and Budget (OMB) for review and approval in accordance with the Paperwork Reduction Act of 1995.

DATES: Comments are encouraged and will be accepted for 60 days until May 10, 2024.

FOR FURTHER INFORMATION CONTACT: If you have additional comments especially on the estimated public burden or associated response time, suggestions, or need a copy of the proposed information collection instrument with instructions or additional information, please contact Laura Maruschak, Bureau of Justice Statistics, 810 Seventh Street NW, Washington, DC 20531, (email: laura.maruschak@usdoj.gov; telephone: 202-598-0802).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Census of State and Federal Adult Correctional Facilities (CCF) is part of the larger Bureau of Justice Statistics' (BJS) portfolio of establishment surveys that inform the nation on the characteristics of adult correctional facilities and persons sentenced to State and Federal prisons. The CCF collects data at the facility level. Data obtained are intended to describe the characteristics of confinement and community-based adult correctional facilities that are operated by (1) State correctional and BOP authorities or (2) private entities that primarily house inmates for State correctional or BOP authorities. The data collected inform issues related to the operations of facilities and the conditions of confinement, including facility capacity and crowding, safety and security within prisons, staff workload, overall facility function, programming, work assignments, and special housing. All data are submitted on a voluntary basis. BJS plans to continue to use two instruments to collect data on each facility eligible for the CCF with the reference date of June 30, 2024.

Consistent with the most recent iteration of the CCF in 2019 the 2024 CJ-43A includes—

• Functions of the facility (e.g., general confinement, community corrections, reception/diagnostic, medical treatment confinement)

• Percentage of inmates regularly permitted to leave the facility unaccompanied

• Whether the facility is administratively linked (e.g., share budgets or staff) to other facilities and if they are, names of other facilities

• Type of authority operating the facility (e.g., Federal, State, local, joint State and local)

• Whether the facility is authorized to house males, females, or both males and females

• Physical-security level of the facility

• Whether the facility has a designated geriatric unit for inmates of advanced age

• Whether the facility has a housing unit specifically designated for veterans

• Rated or design capacity of the facility

• Whether the facility operated under a State or Federal court order or consent decree that limited the number of inmates it could house

• Whether the facility operated under a State or Federal court order or consent decree for specific conditions of confinement

• Year that State or Federal court order or consent decree took effect

• Number of inmates, by sex on the reference date

• Number of inmates under the age of 18 by sex on the reference date

• Number of inmates by racial category on the reference date

• Number of inmates by custody-security level on the reference date

• Number of inmates by maximum sentence length (more than 1 year and 1 year or less) on the reference date

• Number of inmates who were non-U.S. citizens on the reference date

• Number of inmates being held in restrictive housing on reference date

• Number of inmates housed in protective custody, administrative segregation, segregated for disciplinary reasons, or other restrictive housing on the reference date

• Number of inmates held for Federal, State, local, and Tribal authorities on the reference date

• Number of staff (security and total), by sex on the reference date

• Number of security staff by racial category on the reference date

• Number of misconduct/disciplinary reports filed on inmates over a 1-year period

• Number of assaults against facility staff by inmates reported over a 1-year period

• Number of prisoner assaults by other inmates with and without serious injury reported over a 1-year period

• Number of disturbances that occurred at the facility over a 1-year period

• Whether the facility has a perimeter or barriers, or surveillance method to detect those attempting to escape

• Number of escapes by inmates that occurred at the facility over a 1-year period

• Number of walkaways by inmates that occurred at the facility over a 1-year period

• Types of work assignments available to inmates on the reference date

• Types of counseling or special programs available to inmates on the reference date

• Types of educational programs available to inmates on the reference date

BJS is proposing to add the following items to the 2024 CJ-43A, all of which are likely available from the same databases as existing data elements and should pose minimal additional burden to the respondents, while enhancing BJS's ability to characterize the corrections system and populations it serves:

• Number of vacant security staff positions

• Accessibility of technology/internet by inmates

Based on high burden, low utilization, and/or low response rates in the 2019 CCF, BJS is proposing to remove the following items from the CJ-43A:

• Number of payroll and nonpayroll staff by employment status (full-time and part-time)

• Number of security staff on average at facility by day shift, night shift, and overnight shift

• Number of shared security staff with other administratively linked facilities

Consistent with the most recent iteration of the CCF in 2019 the 2024 CJ-43B includes—

• Functions of the facility (e.g., general confinement, community corrections, reception/diagnostic, medical treatment confinement)

• Percentage of inmates regularly permitted to leave the facility unaccompanied

• Whether the facility is administratively linked to other facilities and if they are, names of other facilities

• Type of authority operating the facility (e.g., Federal, State, local, joint State and local)

• Whether the facility is authorized to house males, females, or both males and females

• Number of inmates by sex on the reference date

• Number of inmates under the age of 18 by sex on the reference date

• Number of inmates by racial category on the reference date

• Number of inmates who were non-U.S. citizens on the reference date

• Number of inmates held for Federal, State, local, and Tribal authorities on the reference date

• Number of walkaways by inmates that occurred at the facility over a 1-year period

• Types of counseling or special programs available to inmates on the reference date

• Types of educational programs available to inmates on the reference date

BJS uses the information gathered in CCF in published reports and statistics. The reports will be made available to the U.S. Congress, Executive Office of the President, practitioners, researchers, students, the media, others interested in criminal justice statistics, and the general public via the BJS website.

Overview of This Information Collection

1. Type of Information Collection: Reinstatement, with change, of a previously approved collection for which approval has expired. Proposed revisions include the addition of items to measure digital technology/internet accessibility of inmates and security staff vacancies.

2. The Title of the Form/Collection: Census of State and Federal Adult Correctional Facilities (CCF).

3. The agency form number, if any, and the applicable component of the Department sponsoring the collection: The CCF includes two forms: CJ-43A and CJ-43B. The sponsoring component is the Bureau of Justice Statistics.

4. Affected public who will be asked or required to respond, as well as the obligation to respond: Affected Public is State and Federal Government, and private entities contracted to house inmates for State and Federal Government. The obligation to respond is voluntary.

5. An estimate of the total number of respondents and the amount of time estimated for an average respondent to respond: The CCF will collect data on approximately 1,670 State and Federal adult correctional facilities, of which, 1,160 are confinement and 510 are community-based facilities. Including follow-up time, the estimated burden for the CJ43-A is 180 minutes and 55 minutes for the CJ-43B. A central respondent may be responsible for coordinating, compiling, and submitted data for multiple facilities, particularly in the case of State DOCs, the BOP, and private corporations operating multiple facilities.

6. An estimate of the total annual burden (in hours) associated with the collection: The total annual burden hours for this collection is 3,947.5 hours.

7. An estimate of the total annual cost burden associated with the collection, if applicable: $151,979.

Total Burden Hours
Activity | Number of respondents | Frequency | Total annual responses | Time per response (minutes) | Total annual burden (hours)
CJ-43A | 1,160 | 1 | 1,160 | 180 | 3,480
CJ-43B | 510 | 1 | 510 | 55 | 467.5
Unduplicated Totals | 1,670 |  |  | 235 | 3,947.5

If additional information is required contact: Darwin Arceo, Department Clearance Officer, United States Department of Justice, Justice Management Division, Policy and Planning Staff, Two Constitution Square, 145 N Street NE, 4W-218, Washington, DC.

Dated: March 6, 2024.
Darwin Arceo,
Department Clearance Officer for PRA, U.S. Department of Justice.

[FR Doc. 2024-05087 Filed 3-8-24; 8:45 am]

BILLING CODE 4410-18-P